DEPARTMENT OF ENERGY

[GDO Docket No. EA-472-A]

Application for Renewal of Authorization To Export Electric Energy; Luminant Energy Company LLC

AGENCY: Grid Deployment Office, Department of Energy.

ACTION: Notice of application.

SUMMARY: Luminant Energy Company LLC (the Applicant or LUME) has applied for renewed authorization to transmit electric energy from the United States to Canada pursuant to the Federal Power Act.

DATES: Comments, protests, or motions to intervene must be submitted on or before April 24, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On July 18, 2019, DOE issued Order No. EA-472 to LUME to transmit electric energy from the United States to Canada as a power marketer for a period of five years. On February 12, 2024, LUME filed an application with DOE (Application or App.) for renewal of their export authority for an additional five-year term. App. at 1.

According to its application, LUME is a Texas limited liability company and indirect, wholly-owned subsidiary of Vistra Corp. (Vistra). Id. at 2. LUME states it manages the optimization, marketing, and deployment of approximately 18,000 megawatts (MW) of generation capacity located within the Electric Reliability Council of Texas (ERCOT) market. Id. LUME represents that it also manages power purchase agreements and meets the energy supply requirements of various competitive retail energy service providers within ERCOT, is certified as a Qualified Scheduling Entity with ERCOT, and is registered with the Public Utilities Commission of Texas as a wholesale power marketer. Id. The Applicant is also authorized to sell wholesale electric energy, capacity, and ancillary services outside of ERCOT at market-based rates pursuant to authority granted by the Federal Energy Regulatory Commission (FERC). Id.

LUME's parent company, Vistra, “operates a generation portfolio of approximately 37,000 MWs of natural gas, nuclear, coal, battery, and solar facilities in 20 states and the District of Columbia and in six of the seven competitive markets in the United States.” App. at 2. LUME states that neither it nor its affiliates “directly or indirectly own or control any transmission facilities other than those limited and discrete facilities interconnecting its electric generation facilities to the grid.” Id. at 3. LUME further states that neither it nor any of its affiliates has a franchised service area. Id. Further, LUME notes its proposed exports would be surplus electricity and that market mechanisms and reliability oversite protect against exports that would jeopardize domestic sufficiency of supply. See id. at 5 n.13. LUME also asserts that because it will schedule its exports from the U.S. in compliance with all applicable criteria, standards, and guidelines, its proposed exports will not impede reliability. Id. at 6.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning BETM's Application should be clearly marked with GDO Docket No. EA-472-A. Additional copies are to be provided directly to Jessica Miller and Heather Moreno, VISTRA CORP., 1005 Congress Ave., Suite 750, Austin, TX 78701, jessica.miller@vistracorp.com, heather.moreno@vistracorp.com, VistraFERC@vistracorp.com, and Stephen J. Hug and Ben N. Reiter, AKIN GUMP STRAUSS HAUER & FELD LLP, 2001 K Street NW, Washington, DC 20006, shug@akingump.com, breiter@akingump.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on March 18, 20124, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 20, 2024.
Treena V. Garrett,
Federal Register Liaison Officer, U.S. Department of Energy.

[FR Doc. 2024-06202 Filed 3-22-24; 8:45 am]

BILLING CODE 6450-01-P